COMMITTEE FOR THE IMPLEMENTATION OF TEXTILE AGREEMENTS

Designations under the Textile and Apparel Commercial Availability Provision of the Andean Trade Promotion and Drug Eradication Act (ATPDEA)

April 6, 2004.

AGENCY: The Committee for the Implementation of Textile Agreements (The Committee).

ACTION: Designation.

SUMMARY: The Committee has determined that certain viscose rayon filament yarns, of the specifications detailed below, classified in subheading 5403.41.0000 of the Harmonized Tariff Schedule of the United States (HTSUS), for use in apparel articles, cannot be supplied by the domestic industry in commercial quantities in a timely manner under the ATPDEA. The Committee hereby designates that apparel articles, made from fabrics formed in the U.S. or an eligible beneficiary ATPDEA country containing such yarns, that are sewn or otherwise assembled in an eligible ATPDEA beneficiary country, shall be eligible to enter free of quotas and duties under HTSUS subheading 9821.11.10, provided all other yarns are U.S. formed and all other fabrics are U.S. formed from yarns wholly formed in the United States. The Committee notes that this designation under the ATPDEA renders apparel articles containing such yarn, sewn or otherwise assembled in an eligible ATPDEA beneficiary country, as eligible for quota-free and duty-free treatment under HTSUS subheading 9821.11.13, provided the requirements of that subheading are met.

Specifications:
1. Viscose Filament Yarn
DTEX 166/40 Bright Centrifugal
Tenacity, cN/tex, min. - 142.0
Elongation at rupture, % - 18.0 - 24.0
Elongation at rupture variation factory, % max. - 8.1
Twist direction - S
2. Viscose Filament Yarn
DTEX 330/60 Bright Centrifugal
Tenacity, cN/tex, min. - 142.0
Elongation at rupture, % - 18.0 - 24.0
Elongation at rupture variation factor, % max. - 8.1
Twist direction - S

EFFECTIVE DATE: April 9, 2004.

FOR FURTHER INFORMATION CONTACT: Janet Heinzen, Office of Textiles and Apparel, U.S. Department of Commerce, (202) 482-3400.

SUPPLEMENTARY INFORMATION:

Authority: Section 204 (b)(3)(B)(ii) of the ATPDEA, Presidential Proclamation 7616 of October 31, 2002, Executive Order 13277 of November 19, 2002, and the United States Trade Representative's Notice of Further Assignment of Functions of November 25, 2002.

Background

The commercial availability provision of the ATPDEA provides for duty-free and quota-free treatment for apparel articles that are both cut (or knit-to-shape) and sewn or otherwise assembled in one or more beneficiary countries from fabric or yarn that is not formed in the United States if it has been determined that such yarns or fabrics cannot be supplied by the domestic industry in commercial quantities in a timely manner and certain procedural requirements have been met. In Presidential Proclamation 7616 of October 31, 2002, the President proclaimed that this treatment would apply to such apparel articles from fabrics or yarns designated by the appropriate U.S. government authority in the Federal Register. In Executive Order 13277 of November 19, 2002, and the United States Trade Representative's Notice of Further Assignment of Functions of November 25, 2002, the Committee was authorized to determine whether yarns or fabrics cannot be supplied by the domestic industry in commercial quantities in a timely manner under the ATPDEA.

On November 24, 2003, the Committee received a request alleging that certain viscose rayon filament yarns, of the specifications detailed above, cannot be supplied by the domestic industry in commercial quantities in a timely manner under the ATPDEA. It requested that apparel articles containing such yarns be eligible for preferential treatment under the ATPDEA. On December 1, 2003, the Committee requested public comment on the petition (68 FR 67153). On December 17, 2003, the Committee and the U.S. Trade Representative (USTR) sought the advice of the Industry Sector Advisory Committee for Wholesaling and Retailing and the Industry Sector Advisory Committee for Textiles and Apparel. On December 17, 2003, the Committee and USTR offered to hold consultations with the Committee on Ways and Means of the House of Representatives and the Committee on Finance of the Senate (collectively, the Congressional Committees). On January 5, 2004, the U.S. International Trade Commission provided advice on the petition. Based on the information and advice received and its understanding of the industry, the Committee determined that the yarn set forth in the request cannot be supplied by the domestic industry in commercial quantities in a timely manner. On January 28, 2004, the Committee and USTR submitted a report to the Congressional Committees that set forth the action proposed, the reasons for such action, and advice obtained. A period of 60 calendar days since this report was submitted has expired, as required by the ATPDEA.

The Committee hereby designates apparel articles, made from fabrics formed in the U.S. or an eligible beneficiary ATPDEA country containing such yarns, that are sewn or otherwise assembled in an eligible ATPDEA beneficiary country, shall be eligible to enter free of quotas and duties under HTSUS subheading 9821.11.10, provided all other yarns are U.S. formed and all other fabrics are U.S. formed from yarns wholly formed in the United States. The Committee notes that this designation under the ATPDEA renders apparel articles sewn or otherwise assembled in an eligible ATPDEA beneficiary country containing such yarn as eligible for quota-free and duty-free treatment under HTSUS subheading 9821.11.13, provided the requirements of that subheading are met.

An “eligible ATPDEA beneficiary country” means a country which the President has designated as an ATPDEA beneficiary country under section 203(a)(1) of the Andean Trade Preference Act (ATPA) (19 U.S.C. 3202(a)(1)), and which has been the subject of a finding, published in the Federal Register, that the country has satisfied the requirements of section 203(c) and (d) of the ATPA (19 U.S.C. 3202(c) and (d)), resulting in the enumeration of such country in U.S. note 1 to subchapter XXI of Chapter 98 of the HTSUS.

James C. Leonard III,
Chairman, Committee for the Implementation of Textile Agreements.

[FR Doc. 04-8209 Filed 4-8-04; 8:45 am]

BILLING CODE 3510-DR-S